DEPARTMENT OF HEALTH AND HUMAN SERVICES

National Institutes of Health

National Institute of Child Health and Human Development; Amended Notice of Meeting

Notice is hereby given of a change in the meeting of the National Institute of Child Health and Human Development Special Emphasis Panel, March 26, 2002, 8:30 AM to March 26, 2002, 5 PM, Four Points by Sheraton Bethesda, 8400 Wisconsin Avenue, Bethesda, MD, 20814 which was published in the Federal Register on February 22, 2002, 67 FR 8277.

The meeting will be held on April 3, 2002, Holiday Inn Chevy Chase, 5520 Wisconsin Avenue, Chevy Chase, Maryland. The time of the meeting remains the same. The meeting is closed to the public.

Dated: March 22, 2002.
LaVerne Y. Stringfield,
Director, Office of Federal Advisory Committee Policy.

[FR Doc. 02-7613 Filed 3-28-02; 8:45 am]

BILLING CODE 4140-01-M